DEPARTMENT OF LABOR

Mine Safety and Health Administration

State's Mine Health and Safety Grants

AGENCY: Mine Safety and Health Administration, Labor.

ACTION: Notice of posting of the Solicitation for Grant Applications for the Fiscal Year 2012 State grant program.

Announcement Type: New.

Funding Opportunity Number: MSHA 2012-1.

Catalog of Federal Domestic Assistance Number: 17,600.

Types of Assistance: Discretionary Grants.

Number of awards: 50 to States or other eligible applicants.

Start date of project period: October 1, 2011.

End date of project period: September 30, 2012.

Estimated amount of funds to be awarded: $8,441,000.

SUMMARY: The United States Department of Labor, Mine Safety and Health Administration (MSHA), has posted its solicitation for grant applications (SGA) for the States Grants Program on http://www.grants.gov. The SGA contains all of the necessary information needed to apply for grant funding.

Applicants for these grants are States or State-designated entities. The purpose of these grants is to improve and secure safe and healthy workplaces for U.S. miners. The final amount of each individual grant will be determined by the formula in Section 503(h) of the Federal Mine Safety and Health Act of 1977 (30 U.S.C. 953(h)) and MSHA's final Fiscal Year 2012 appropriation.

DATES: All applications must be received on April 1, 2012 by Midnight, Eastern Daylight Saving Time.

FOR FURTHER INFORMATION CONTACT: Robert Glatter at glatter.robert@dol.gov, at 202-693-9570 (voice), or 202-693-9571 (facsimile) or Valoree Lilley at lilley.valoree@dol.gov, 202-693-9831. These are not toll-free numbers.

Authority: 30 U.S.C. 953.

Dated: February 8, 2012.
Patricia W. Silvey,
Deputy Assistant Secretary for Mine Safety and Health.

[FR Doc. 2012-3341 Filed 2-13-12; 8:45 am]

BILLING CODE 4510-43-P